DEPARTMENT OF THE INTERIOR

National Park Service

Notice of Realty Action for Proposed Land Exchange

AGENCY: National Park Service, Interior.

SUMMARY: Proposed exchange of federally-owned lands for privately-owned lands in Lake Clark National Park and Preserve. The federally-owned lands are located in the Kenai Peninsula Borough, Alaska. The private lands are located in the Lake and Peninsula Borough, Alaska.

DATES: We must receive written comments on the proposed exchange by December 10, 2007.

ADDRESSES: Detailed information concerning this exchange is available from the Superintendent, Lake Clark National Park and Preserve, 240 W. 5th Avenue, Anchorage, Alaska 99501.

SUPPLEMENTARY INFORMATION: The following described federally-owned land has been determined to be suitable for disposal by exchange. The authority for this exchange is section 1302(h) of the Alaska National Interest Lands Conservation Act (ANILCA) of December 2, 1980, 16 U.S.C. 3192(h). The federal land which is proposed for disposal is within the boundary of the Lake Clark National Park and Preserve. It is located approximately 2 miles southwesterly of the mouth of Silver Salmon Creek and contains approximately 4.55 acres. The land has been surveyed for cultural resources and endangered and threatened species. These reports are available upon request from the Superintendent, Lake Clark National Park and Preserve at the address set forth above. Title to the above land will be conveyed in fee simple with covenants and restrictions that prohibit for-profit selling of services, industrial uses and commercial development. The covenants also limit development and occupancy of the parcel and require that future development be visually compatible with surrounding park and preserve lands. Conveyance of the land by the United States will be done by patent.

In exchange for the land identified above the United States of America will acquire U.S. Survey 8481, Alaska, a 79.98-acre parcel on the southern shore of Lake Clark at Sucker Bay, approximately 16.5 miles southwesterly of the village of Port Alsworth, and approximately 7.5 miles northwesterly of Nondalton in fee simple with no reservations. The value of the properties exchanged shall be determined by a current fair market value appraisal. If the appraised value of the Sucker Bay parcel is greater than the appraised value of the Silver Salmon Creek parcel, the parties will complete the exchange, subject to approval of title to the Sucker Bay parcel by the Department of the Interior, Regional Solicitor. An environmental assessment of the proposed action was completed in January 2007 and a Finding of No Significant Impact approved on March 26, 2007.

For a period of 45 calendar days from the date of this notice, interested parties may submit comments to the above address. Comments will be evaluated and this action may be modified or vacated accordingly. In the absence of any action to modify or vacate, this realty action will become the final determination of the Department of the Interior.

Before including your address, phone number, e-mail address, or other personal identifying information in your comment, you should be aware that your entire comment—including your personal identifying information—may be made publicly available at any time. While you can ask us in your comment to withhold your personal identifying information from public review, we cannot guarantee that we will be able to do so.

Dated: October 18, 2007.
Marcia Blaszak,
Regional Director, Alaska.

[FR Doc. E7-21085 Filed 10-25-07; 8:45 am]

BILLING CODE 4310-T6-P